DEPARTMENT OF AGRICULTURE

Animal and Plant Health Inspection Service

[Docket No. APHIS-2009-0060]

Notice of Request for Extension of Approval of an Information Collection; Tuberculosis Testing of Imported Cattle

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for tuberculosis testing of imported cattle.

DATES: We will consider all comments that we receive on or before October 13, 2009.

ADDRESSES: You may submit comments by either of the following methods:

• Federal eRulemaking Portal: Go to http://www.regulations.gov/fdmspublic/component/main?main=DocketDetail&d=APHIS-2009-0060 to submit or view comments and to view supporting and related materials available electronically.

• Postal Mail/Commercial Delivery: Please send two copies of your comment to Docket No. APHIS-2009-0060, Regulatory Analysis and Development, PPD, APHIS, Station 3A-03.8, 4700 River Road, Unit 118, Riverdale, MD 20737-1238. Please state that your comment refers to Docket No. APHIS-2009-0060.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information regarding regulations for tuberculosis testing of imported cattle, contact Dr. Betzaida Lopez, Staff Veterinarian, Technical Trade Services Team—Animals, National Center for Import and Export, VS, APHIS, 4700 River Road, Unit 39, Riverdale, MD 20737; (301) 734-5677. For copies of more detailed information on the information collection, contact Mrs. Celeste Sickles, APHIS' Information Collection Coordinator, at (301) 851-2908.

SUPPLEMENTARY INFORMATION:

Title: Tuberculosis Testing of Imported Cattle.

OMB Number: 0579-0224.

Type of Request: Extension of approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of livestock diseases and pests. To carry out this mission, APHIS regulates the importation of animals and animal products into the United States. Regulations concerning the importation of animals are contained in 9 CFR part 93. Subpart D of part 93 pertains to the importation of ruminants, including cattle.

The regulations in subpart D include requirements to ensure that cattle imported into the United States are free of bovine tuberculosis. Among other things, subpart D requires an import permit for cattle from Mexico and certain other countries, and requires that the application for the import permit list the specific location of all premises that the cattle to be imported have been on. Additionally, subpart D requires certification regarding the tuberculosis history of the herds from which a group of cattle is assembled for export to the United States. This information is necessary to allow APHIS to ensure that the cattle to be imported are free of tuberculosis, thereby protecting the health of U.S. livestock.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.8258331 hours per response.

Respondents: Officials of the national government of regions from which the cattle originate and salaried veterinary officials of exporting regions.

Estimated annual number of respondents: 80,075.

Estimated annual number of responses per respondent: 1.253512.

Estimated annual number of responses: 100,375.

Estimated total annual burden on respondents: 82,893 hours. (Due to averaging, the total annual burden hours may not equal the product of the annual number of responses multiplied by the reporting burden per response.)

All responses to this notice will be summarized and included in the request for OMB approval. All comments will also become a matter of public record.

Done in Washington, DC, this 5th day of August 2009.
William H. Clay,
Acting Administrator, Animal and Plant Health Inspection Service.

[FR Doc. E9-19209 Filed 8-10-09; 8:45 am]

BILLING CODE 3410-34-P